DEPARTMENT OF COMMERCE

National Oceanic and Atmospheric Administration

RIN 0648-XF473

Endangered and Threatened Species; Take of Anadromous Fish

AGENCY: National Marine Fisheries Service (NMFS), National Oceanic and Atmospheric Administration (NOAA), Commerce.

ACTION: Applications for three new scientific research permits, one permit modification, and four permit renewals.

SUMMARY: Notice is hereby given that NMFS has received eight scientific research permit application requests relating to Pacific salmon, steelhead, eulachon, green sturgeon, and rockfish. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on July 17, 2017.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Puget Sound (PS).

Steelhead (O. mykiss): Threatened PS.

Chum salmon (O. keta): Threatened Hood Canal Summer-run (HCS).

Eulachon (Thaleichthys pacificus): Threatened Southern (S).

Green sturgeon (Acipenser medirostris): Threatened Southern (S).

Bocaccio (Sebastes paucispinis): Endangered Puget Sound/Georgia Basin (PS/GB).

Yelloweye rockfish (S. ruberrimus): Threatened PS/GB.

Authority

Scientific research permits are issued in accordance with section 10(a)(1)(A) of the ESA (16 U.S.C. 1531 et seq.) and regulations governing listed fish and wildlife permits (50 CFR 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 15848-2R

The Washington Department of Fish and Wildlife (WDFW) is seeking to renew, for five years, a research permit that currently allows them to take juvenile and adult PS Chinook salmon, HCS chum salmon, PS steelhead, and PS/GB bocaccio and adult S green sturgeon in the Puget Sound (Washington State). The WDFW research may also cause them to take juvenile and adult S eulachon and PS/GB yelloweye rockfish—species for which there are currently no ESA take prohibitions. The purpose of the WDFW study is to estimate the relative abundance of bottomfish in Puget Sound and collect information on the distribution and biology of key marine vertebrate and invertebrate resources. The research would benefit the affected species by providing the WDFW with information on encounter rates and species distributions—information that fisheries managers would use to promulgate regulations designed to protect and promote the recovery of listed species and to properly manage non-listed fishery resources. The WDFW proposes to capture fish using a bottom trawl. All captured eulachon, salmonids, and green sturgeon would either be released immediately at the surface or held temporarily in an aerated live well to help them recover before being released. Listed rockfish would be released via rapid submergence to their capture depth to reduce adverse effects from barotrauma. The researchers do not propose to kill any fish but a small number may die as an unintended result of research activities. Some unintentional mortalities may be retained for further analysis.

Permit 15890-2R

The WDFW is seeking to renew, for five years, a research permit that currently allows them to take juvenile and adult PS Chinook salmon, HCS chum salmon, PS steelhead, and PS/GB bocaccio in the Puget Sound (Washington State). The WDFW research may also cause them to take juvenile and adult S eulachon and PS/GB yelloweye rockfish—species for which there are currently no ESA take prohibitions. The purpose of the WDFW study is to estimate abundance and determine other important demographic information for pelagic forage fish in key areas of Puget Sound. The research would benefit both listed and non-listed species by monitoring their relative abundance in Puget Sound and obtaining information on the spatial and temporal locations of all pelagic species in the region. The WDFW proposes to capture fish with a mid-water trawl working in tandem with an acoustic survey boat. All captured salmonids would be sampled (fin clips, sample scale) and either released immediately at the surface or held temporarily in an aerated live well to help them recover before release. All viable eulachon would be released at the surface without sampling. Listed rockfish would have a fin clip collected for genetic analyses and then be released via rapid submergence to their capture depth to reduce adverse effects from barotrauma. The researchers do not propose to kill any fish, but a small number may die as an unintentional result of research activities. Some unintentional mortalities may be retained for further analysis.

Permit 16021-2R

The WDFW is seeking to renew, for five years, a research permit that currently allows them to take juvenile and adult PS Chinook salmon and PS/GB bocaccio and adult S green sturgeon in the Puget Sound (Washington State). The WDFW research may also cause them to take adult S eulachon and juvenile and adult PS/GB yelloweye rockfish—species for which there are currently no ESA take prohibitions. The purpose of the WDFW study is to improve the understanding of groundfish stock structure, life history, biology, geographic distribution, habitat use, and food web relationships. The research would benefit the affected species by providing data critical for population modeling—information that would be used to improve management of Puget Sound groundfish resources. The WDFW proposes to capture fish using hook and line and live-capture traps. All captured salmonids, eulachon, and green sturgeon would either be released immediately at the surface or held temporarily in an aerated live well to help them recover before being released. Listed rockfish would have a fin clip collected for genetic analysis and researchers would attach a floy tag to the fish before releasing them via rapid submergence to their capture depth. After being captured, the listed salmon and steelhead would be placed in aerated live wells, identified, and released. The researchers do not propose to kill any listed fish being captured, but a small number may die as an unintended result of the activities. Some unintentional mortalities may be retained for further analysis.

Permit 16091-2R

The WDFW is seeking to renew, for five years, a research permit that currently allows them to take juvenile and adult PS Chinook salmon, HCS chum salmon, PS steelhead, and PS/GB bocaccio and adult S green sturgeon in the Puget Sound (Washington State). The WDFW research may also cause them to take juvenile and adult S eulachon and PS/GB yelloweye rockfish—species for which there are currently no ESA take prohibitions. The purpose of the WDFW study is to capture English sole (Parophrys vetulus) throughout the Salish Sea to monitor tissue levels of toxic chemical contaminants, frequency of pathological disorders, and biomarkers signifying biological effects. The research would benefit the listed species as well as the target species by providing managers with a better understanding of toxic contaminant impacts on the benthic food web, measuring changes in toxic contaminant levels on a local level, and helping prioritize cleanup efforts. The WDFW proposes to capture fish using a bottom trawl. All captured eulachon, salmonids, and green sturgeon would either be released immediately at the surface or held temporarily in an aerated live well to help them recover before being released. Listed rockfish would be released via rapid submergence to their capture depth to reduce adverse effects from barotrauma. The researchers do not propose to kill any fish but a small number may die as an unintended result of research activities. Some unintentional mortalities may be retained for further analysis.

Permit 20535-2M

The U.S. Army Corps of Engineers (USACE) is seeking to modify a three-year research permit that allows them to annually take juvenile PS Chinook salmon and PS steelhead in the lower Duwamish River (King County, Washington). The USACE research may also cause them to take adult S eulachon—species for which there are currently no ESA take prohibitions. The purpose of the USACE study is to collect starry flounder (Platichthys stellatus), shiner surfperch (Cymatogaster aggregate), English sole, and Pacific staghorn sculpin (Leptocottus armatus) for tissue sampling and PCB congener analysis. The research would benefit the listed species by enhancing managers' understanding of contaminant partitioning within the food web near the Lower Duwamish Waterway Superfund Site. The USACE proposes to capture fish using beach seines. All listed fish are would be captured, handled, and released. The researchers do not propose to kill any listed fish being captured, but a small number may die as an unintended result of the activities.

Permit 21061

Windward Environmental (WE) is seeking a two-year research permit to annually take juvenile and adult PS Chinook salmon and PS steelhead and juvenile PS/GB bocaccio in the lower Duwamish River (King County, Washington). The WE research may also cause them to take juvenile PS/GB yelloweye rockfish—species for which there are currently no ESA take prohibitions. The purpose of the WE study is to establish baseline tissue chemical concentrations for English sole, starry flounder, shiner surfperch, Dungeness crab (Metacarcinus magister), and graceful crab (M. gracilis) in the lower Duwamish River to assess the progress toward meeting target tissue chemical concentrations identified in the Environmental Protection Agency's (EPA) Record of Decision (ROD). The research would benefit the affected species by helping delineate contaminated areas and using that information to minimize animals' exposure to contaminated sediments by performing sediment remediation designed to protect aquatic wildlife. The WE proposes to capture fish using an otter trawl and crab traps. All listed fish would be captured, handled, and released. The researchers do not propose to kill any listed fish being captured, but a small number may die as an unintended result of the activities.

Permit 21185

The Wild Fish Conservancy (WFC) is seeking a five-year research permit to annually take juvenile PS Chinook salmon and PS steelhead in the Deschutes River watershed and Kitsap Peninsula (Washington State). The purpose of the WFC study is to water-type existing channel classifications in selected sub-basins and floodplain areas to validate and correct Washington Department of Natural Resources (WDNR) classifications. The research would benefit the listed species by filling data gaps regarding fish passage impediments (i.e., tidegates, culverts) and fish species composition and distribution—information needed to responsibly identify, prioritize, and implement restoration projects. The WFC proposes to capture fish using backpack electrofishing equipment. The captured fish would be identified to species, fin clipped (PS steelhead only), and returned to their capture locations. Once fish presence is established, either through visual observation or electrofishing, electrofishing would be discontinued. Surveyors would then proceed upstream until a change in habitat parameters is encountered, at which point the electrofishing would be continued. The researchers do not propose to kill any listed fish being captured, but a small number may die as an unintended result of the activities.

Permit 21330

The U.S. Fish and Wildlife Service (FWS) is seeking a five-year research permit to annual take juvenile PS Chinook salmon and PS steelhead in Jim Creek (South Fork Stillaguamish River watershed; Snohomish County, Washington). The purpose of the FWS study is to document ESA-listed fish presence, distribution, and abundance in Jim Creek within the boundaries of the Naval Radio Station Jim Creek facility. The research would benefit the listed species by refining the facility's Integrated Natural Resources Management plan, guiding decisions regarding habitat restoration, and helping fill data gaps in the distribution and abundance of ESA-listed PS Chinook, PS steelhead, and bull trout (Salvelinus confluentus). The FWS proposes to capture fish using backpack electrofishing equipment. The captured fish would be removed from the water using a dip net, placed in aerated buckets, anesthetized with MS-222, identified to species, weighed, measured, allowed to recover, and returned to their capture locations. The researchers do not propose to kill any listed fish being captured, but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: June 12, 2017.
Angela Somma,
Chief, Endangered Species Division, Office of Protected Resources, National Marine Fisheries Service.

[FR Doc. 2017-12433 Filed 6-14-17; 8:45 am]

BILLING CODE 3510-22-P